DEPARTMENT OF ENERGY

Federal Energy Regulatory Commission

Combined Notice of Filings #1

Take notice that the Commission received the following electric rate filings:

Docket Numbers: ER22-2725-000.

Applicants: PJM Interconnection, L.L.C.

Description: § 205(d) Rate Filing: Amendment to WMPA, SA No. 5875; Queue No. AE2-129 (amend) to be effective 12/3/2020.

Filed Date: 8/26/22.

Accession Number: 20220826-5037.

Comment Date: 5 p.m. ET 9/16/22.

Docket Numbers: ER22-2726-000.

Applicants: AEP Texas Inc.

Description: § 205(d) Rate Filing: AEPTX-Electric Transmission Texas Interconnection Agreement to be effective 7/29/2022.

Filed Date: 8/26/22.

Accession Number: 20220826-5052.

Comment Date: 5 p.m. ET 9/16/22.

Docket Numbers: ER22-2727-000.

Applicants: PJM Interconnection, L.L.C.

Description: § 205(d) Rate Filing: Amendment to ISA, Service Agreement No. 5995; Queue No. AD2-160/AE2-253 to be effective 3/3/2021.

Filed Date: 8/26/22.

Accession Number: 20220826-5069.

Comment Date: 5 p.m. ET 9/16/22.

Docket Numbers: ER22-2728-000.

Applicants: Viridian Energy Ohio LLC.

Description: § 205(d) Rate Filing: Notice of Succession to be effective 8/27/2022.

Filed Date: 8/26/22.

Accession Number: 20220826-5072.

Comment Date: 5 p.m. ET 9/16/22.

Docket Numbers: ER22-2729-000.

Applicants: Public Service Company of Colorado.

Description: § 205(d) Rate Filing: 2022-08-26 CORE-TIA-391 to be effective 10/26/2022.

Filed Date: 8/26/22.

Accession Number: 20220826-5090.

Comment Date: 5 p.m. ET 9/16/22.

Docket Numbers: ER22-2730-000.

Applicants: California Independent System Operator Corporation.

Description: Petition for Approval of Disposition of Penalty Assessment Proceeds and non-Refundable Interconnection Financial Security of the California Independent System Operator Corporation.

Filed Date: 8/24/22.

Accession Number: 20220824-5178.

Comment Date: 5 p.m. ET 9/14/22.

Docket Numbers: ER22-2731-000.

Applicants: The Narragansett Electric Company.

Description: Tariff Amendment: Notice of Cancellation of Amended IA with Pawtucket Generating Company LLC to be effective 10/26/2022.

Filed Date: 8/26/22.

Accession Number: 20220826-5106.

Comment Date: 5 p.m. ET 9/16/22.

Docket Numbers: ER22-2732-000.

Applicants: The Narragansett Electric Company.

Description: § 205(d) Rate Filing: Decommissioning Cost Reimbursement Agreement with Pawtucket to be effective 7/26/2022.

Filed Date: 8/26/22.

Accession Number: 20220826-5143.

Comment Date: 5 p.m. ET 9/16/22.

Docket Numbers: ER22-2733-000.

Applicants: Black Mesa Interconnection, LLC.

Description: Baseline eTariff Filing: Amended and Restated Shared Facilities Agreement to be effective 10/26/2022.

Filed Date: 8/26/22.

Accession Number: 20220826-5146.

Comment Date: 5 p.m. ET 9/16/22.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: August 26, 2022.
Kimberly D. Bose,
Secretary.

[FR Doc. 2022-18949 Filed 8-31-22; 8:45 am]

BILLING CODE 6717-01-P